DEPARTMENT OF HEALTH AND HUMAN SERVICES

Health Resources and Services Administration

Notice of Availability of Final Health Center Program Policy Guidance Regarding Services To Support Transitions in Care for Justice-Involved Individuals Reentering the Community

AGENCY: Health Resources and Services Administration (HRSA), Department of Health and Human Services.

ACTION: Final notice.

SUMMARY: The final Health Center Program Policy Guidance Regarding Services to Support Transitions in Care for Justice-Involved Individuals Reentering the Community Policy Information Notice (JI-R PIN) has been developed to assist health centers who choose to provide certain primary health care services to support the transition of JI-R individuals from the carceral setting back into the community setting.

DATES: This Final JI-R PIN is effective on the date of publication of this notice.

FOR FURTHER INFORMATION CONTACT: For questions regarding this notice, use the HRSA Bureau of Primary Health Care Contact Form: https://hrsa.force.com/support/s/ or call Jennifer Joseph, Director, Office of Policy and Program Development, Bureau of Primary Health Care, HRSA, at 301-594-4300.

SUPPLEMENTARY INFORMATION: HRSA provides grants to eligible applicants under section 330 of the Public Health Service Act, as amended (42 U.S.C. 254b), to support the delivery of preventive and primary care services to the nation's underserved individuals and families. HRSA also certifies eligible applicants under the Health Center Look-Alike Program (see sections 1861(aa)(4)(B) and 1905(l)(2)(B) of the Social Security Act). Look-alikes do not receive Health Center Program funding but must meet the Health Center Program statutory and regulatory requirements. Health centers are local organizations that provide comprehensive, high-quality primary health care services tailored to their communities regardless of their patients' ability to pay. Nearly 1,400 Health Center Program-funded health centers and more than 100 Health Center Program look-alike organizations operate more than 16,100 service delivery sites that provide care to more than 32 million patients in every U.S. state, the District of Columbia, Puerto Rico, the U.S. Virgin Islands, and the Pacific Basin. Note that for the purposes of this document, the term “health center” refers to entities that receive a federal award under section 330 of the Public Health Service Act, as well as subrecipients and organizations designated as look-alikes, unless otherwise stated.

This final JI-R PIN establishes policy for all health centers that apply for and receive a federal award under the Health Center Program, as authorized by section 330 of the Public Health Service (PHS) Act (including sections 330(e), (g), (h), and (i)), as well as section 330 subrecipient organizations and Health Center Program look-alikes. This final JI-R PIN is intended to support health centers in providing certain health services—delivered under the exclusive control and authority of the health center—to support the transition of JI-R individuals from the carceral setting back into the community setting. The services the health center provides are limited to services that support reentry. A health center may not take on or replace the provision of any other health care services the carceral authority provides to those who are incarcerated or detained.

HRSA released a draft of the JI-R PIN for a 60-day public comment period. HRSA revised the JI-R PIN in response to comments and posted a summary of comments and HRSA's responses at https://bphc.hrsa.gov/sites/default/files/bphc/compliance/pin-2024-05-comments-summary.pdf.

Organizations receiving Health Center Program federal awards, including subrecipients, and organizations designated as Health Center Program look-alikes, continue to be subject to all requirements stated in Notices of Funding Opportunity, Notices of Award, Look-Alike Initial Designation and Redesignation Instructions, Notices of Look-Alike Designation, as well as other applicable laws, regulations, and policies. Organizations are also subject to the distinct statutory, regulatory, and policy requirements of other federal programs in which they participate.

Carole Johnson,
Administrator.

[FR Doc. 2024-27903 Filed 11-27-24; 8:45 am]

BILLING CODE 4165-15-P